FEDERAL COMMUNICATIONS COMMISSION

47 CFR Part 1

[WT Docket No. 97-82; FCC 99-384]

Communication Between Applicants in Commission Spectrum Auctions

AGENCY: Federal Communications Commission.

ACTION: Proposed rule.

SUMMARY: This document proposes to amend the regulation of the Federal Communications Commission (FCC) regarding communications between applicants in FCC spectrum auctions. The Commission proposes to require any auction applicant that makes or receives a prohibited communication of bids or bidding strategies to report promptly such a communication to the Commission. The information reported to the FCC would facilitate the Commission's monitoring and investigation of unlawful activity during Commission spectrum auctions.

DATES: Comments are due on or before April 10, 2000. Reply comments are due on or before June 7, 2000. Written comments by the public on the proposed information collections are due April 10, 2000. The Office of Management and Budget (OMB) must submit written comments on the proposed information collection(s) on or before April 10, 2000.

ADDRESSES: An original and four copies of each filing must be sent to the Commission's Secretary, Magalie Roman Salas, Office of the Secretary, TW-A306, Federal Communications Commission, 445 12th Street, SW., Washington, DC 20554. If you want each Commissioner to receive a copy of your comments, you must file an original plus eleven copies. Alternatively, comments and reply comments may be filed with the FCC using the Commission's Electronic Comment Filing System (“ECFS”), via the Internet to <http://www.fcc.gov/e-file/ecfs.html>. See Electronic Filing of Documents in Rulemaking Proceedings, 63 FR 24121 (May 1, 1998).

In addition to filing comments with the Secretary, a copy of any comments on the information collections contained herein should be submitted to Judy Boley, Federal Communications Commission, Room 1-C804, 445 12th Street, SW, Washington, DC 20554, or via the Internet to jboley@fcc.gov, and to Virginia Huth, OMB Desk Officer, 10236 NEOB, 725—17th Street, N.W., Washington, DC 20503 or via the Internet to vhuth@omb.eop.gov.

FOR FURTHER INFORMATION CONTACT: Richard Arsenault, Commercial Wireless Division, Wireless Telecommunications Bureau, Federal Communications Commission, 418-0920, or via the Internet at rarsenau@fcc.gov. For additional information concerning the information collection(s) contained in this document, contact Judy Boley at 202-418-0214, or via the Internet at jboley@fcc.gov.

SUPPLEMENTARY INFORMATION: 1. In the subject Notice of Proposed Rulemaking (NPRM), the FCC proposes to amend its regulation, 47 CFR 1.2105(c)(1), regarding communications between applicants in FCC spectrum auctions. The Commission proposes to amend § 1.2105(c)(1) to require any auction applicant that makes or receives a communication of bids or bidding strategies prohibited by § 1.2105(c)(1) to report promptly such a communication to the Commission. The Commission also proposes to amend § 1.2105(c)(1) to reflect a recent clarification that the rule prohibits an auction applicant from discussing another applicant's bids or bidding strategies even if the first applicant does not discuss its own bids or bidding strategies. See Western PCS BTA 1 Corporation, Memorandum Opinion and Order at paragraphs 7 through 9, FCC 99-385 (released December 13, 1999). Lastly, the Commission seeks comment regarding whether other changes to § 1.2105(c)(1) may be warranted at this time.

2. The proposed rules are not major rules for the purposes of Executive Order 12866. As required by the Regulatory Flexibility Act, the FCC certifies that the proposed rules will not have a significant impact on small business entities. The NPRM contains proposed information collection(s) subject to the Paperwork Reduction Act of 1995 (PRA), Public Law 104-13. It has been submitted to the Office of Management and Budget (OMB) for review under the PRA. The Commission, as part of its continuing effort to reduce paperwork burdens, invites OMB, the general public, and other Federal agencies to comment on the information collection(s) contained in the NPRM, as required by the PRA. Public and agency comments are due April 10, 2000. OMB notification of action is due April 10, 2000. Comments should address: (a) whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

3. Parties who chose to file comments or reply comments on the NPRM using the Commission's ECFS system, should include their full name, postal service mailing address, and the applicable docket or rulemaking number on the transmittal screen. Parties may also submit an electronic comment by Internet e-mail. To obtain filing instructions for e-mail comments, commenters should send an e-mail to ecfs@fcc.gov, and should include the following words in the body of the message, “get form <your e-mail address>.” A sample form and directions will be sent in reply. Parties who choose to file by paper should also submit their comments on diskette. A 3.5-inch diskette formatted in an IBM compatible format using Microsoft Word for Windows or compatible software Diskettes should be submitted to: Richard Arsenault, Federal Communications Commission, Wireless Telecommunications Bureau, 445 12th Street, SW., Room 4-A234, Washington, DC 20554. The diskette should be accompanied by a cover letter and should be submitted in “read only” mode. The diskette should be clearly labeled with the commenter's name, proceeding (including the docket number in this case—WT Docket No. 97-82), type of pleading (comments or reply comments), date of submission, and the name of the electronic file on the diskette. The label should also include the following phrase “Disk Copy—Not an Original.” Each diskette should contain only one party's pleadings, preferably in a single electronic file. In addition, commenters must send diskette copies to the Commission's copy contractor, International Transcription Service, Inc., 1231 20th Street, NW., Washington, DC 20036.

OMB Control Number: 3060-XXXX.

Title: Amendment of Part 1 of the Commission's Rules—Competitive Bidding Procedures

Form No.: None.

Type of Review: New collection.

Respondents: Individuals or households; business or other for-profit; not-for-profit institutions; and/or state, local or tribal governments.

Number of Respondents: 25.

Estimated Time Per Response: 8 hours.

Total Annual Burden: 200 hours

Total Annual Costs: $40,000.

Needs and Uses: Section 1.2105(c)(1) of the Commission's rules provides that “all [auction] applicants are prohibited from cooperating, collaborating, discussing or disclosing in any manner the substance of their bids or bidding strategies. . . .” 47 CFR 1.2105(c)(1). The Commission's experience enforcing § 1.2105(c)(1) over the past five years, however, indicates that, on occasion, some auction applicants engage in communications prohibited by the rule. In the NPRM, we seek comment on amending § 1.2105(c) to require anyone who makes or receives a communication of bids or bidding strategies prohibited under § 1.2105(c)(1) to report promptly such a communication to the Commission. This amendment is intended to deter parties from engaging in prohibited conduct and thereby enhance the competitiveness and fairness of our spectrum auctions. The information reported to the FCC would facilitate the Commission's monitoring and investigation of unlawful activity during Commission spectrum auctions.

Federal Communications Commission.
Magalie Roman Salas,
Secretary.

[FR Doc. 00-2766 Filed 2-7-00; 8:45 am]

BILLING CODE 6712-01-P